DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 77 FR 48525-48526 dated August 14, 2012).

This notice reflects organizational changes to the Health Resources and Services Administration. This notice updates the functional statements for the Bureau of Clinician Recruitment and Service (RU) and the Bureau of Health Professions (RP). Specifically, this notice: (1) Transfers the functions associated with the Office of Shortage Designation (RP2) from the Bureau of Health Professions (RP), to the Bureau of Clinician Recruitment and Service (RU); (2) changes the name of the Office of Policy and Program Development (RU8) to the Division of Policy and Shortage Designation (RU8); (3) updates the functional statement for the Office of Policy and Program Development (RU8); (4) updates the functional statement for the Bureau of Health Professions and the Office of the Associate Administrator, Bureau of Health Professions (RP); (5) changes the name of the Division of Workforce and Performance Management (RPV) to the Office of Performance Measurement (RP4); (6) changes the name of the National Center for Workforce Analysis (RPW) to the National Center for Health Workforce Analysis (RPW); (7) transfers the functions associated with the international migration, domestic training, and utilization of foreign medical graduates and U.S. citizens studying abroad from the Division of Medicine and Dentistry (RPC) to the newly named National Center for Health Workforce Analysis (RPW) and updates the functional statement for the Division of Medicine and Dentistry (RPC); (8) transfers the administration of grants, cooperative agreements and the clearance of correspondence function from the Office of Administrative Management Services (RP1) to the Office of Policy Coordination (RP3); and (9) updates the functional statement for the Division of Public Health and Interdisciplinary Education (RPF).

Chapter RU—Bureau of Clinician Recruitment and Service

Section RU-10, Organization

Delete in its entirety and replace with the following:

The Bureau of Clinician Recruitment and Service (RU) is headed by the Associate Administrator, who reports directly to the Administrator, Health Resources and Services Administration. The Bureau of Clinician Recruitment and Service includes the following components:

(1) Office of the Associate Administrator (RU);

(2) Office of Legal and Compliance (RU1);

(3) Division of National Health Service Corps (RU5);

(4) Division of Nursing and Public Health (RU6);

(5) Division of External Affairs (RU7);

(6) Division of Policy and Shortage Designation (RU8);

(7) Division of Program Operations (RU9);

(8) Division of Regional Operations (RU10); and

(9) Office of Business Operations (RU11).

Section RU-20, Functions

(1) Update the functional statement for the Office of Policy and Program Development (RU8).

Division of Policy and Shortage Designation (RU8)

Serves as the focal point for the development of BCRS programs and policies and directly supports national efforts to analyze and address equitable distribution of health professionals for access to health care for underserved populations. This Division: (1) Leads and coordinates the analysis, development and drafting of policy impacting BCRS programs; (2) coordinates program planning and tracking of legislation and other information related to BCRS programs; (3) leads and monitors the development of workforce projections relating to BCRS programs; (4) provides oversight, processing and coordination for the J1-visa program; (5) performs environmental scanning on issues that affect BCRS programs and assesses the impact of programs on underserved communities; (6) monitors BCRS activities in relation to HRSA's Strategic Plan; (7) develops budget projections and justifications; (8) serves as the Bureau's focal point for program information; (9) works collaboratively with other components within HRSA and HHS, and with other federal agencies, state and local governments, and other public and private organizations on all issues affecting BCRS programs and policies including health professional shortage areas (HPSAs) and medically-underserved areas and populations; (10) directly supports national efforts to analyze and address equitable distribution of health professionals for access to health care for underserved populations; (11) recommends HPSAs and medically-underserved areas and populations (MUAs/MUPs); (12) approves designation requests and finalizes designation policies and procedures for both current and proposed designation criteria; (13) negotiates and approves state designation agreements; and (14) oversees grants to state primary care offices and conducts all business management aspects of the review, negotiation, award, and administration of these grants.

Chapter RP—Bureau of Health Professions

Section RP-10, Organization

Delete in its entirety and replace with the following:

The Bureau of Health Professions (RP) is headed by the Associate Administrator, who reports directly to the Administrator, Health Resources and Services Administration. The Bureau of Health Professions includes the following components:

(1) Office of the Associate Administrator (RP);

(2) Office of Administrative Management Services (RP1);

(3) Office of Policy Coordination (RP3);

(4) Office of Performance Measurement (RP4);

(5) Division of Public Health and Interdisciplinary Education (RPF);

(6) Division of Medicine and Dentistry (RPC);

(7) Division of Nursing (RPB);

(8) Division of Practitioner Data Banks (RPG);

(9) Division of Student Loans and Scholarships (RPD); and

(10) National Center for Health Workforce Analysis.

Section RP-20, Functions

(1) Delete the functional statement for the Bureau of Health Professions (RP) and replace in its entirety.

Bureau of Health Professions (RP)

The Bureau of Health Professions' programs are designed to improve the health of the nation's underserved communities and vulnerable populations by assuring a diverse, culturally competent workforce that is ready to provide access to quality health care services. Bureau of Health Professions' program components provide workforce studies, including research analysis of alternative methodologies for areas of need, training grants for health professions, financial support to students, information to protect the public from unsafe health care practitioners, and support for graduate medical education at the nation's freestanding children's hospitals and teaching health centers. The Health Professions Training Program awards grants to health profession schools and training programs in every state. Grantees use the funds to develop, expand, and enhance their efforts to train the workforce America needs.

Office of the Associate Administrator (RP)

The Office of the Associate Administrator provides overall leadership, direction, coordination, and planning in support of the Bureau of Health Professions' programs to ensure alignment and support of the Agency mission and strategic objectives. Specifically, the Office of the Associate Administrator: (1) Directs and provides policy guidance for workforce recruitment, student assistance, training, and placement of health professionals to serve in underserved areas; (2) establishes program goals and priorities, and provides oversight of program quality and integrity in execution; (3) maintains effective relationships within HRSA and with other federal and non-federal agencies, state and local governments, and other public and private organizations concerned with health workforce development and improving access to health care for the nation's underserved; (4) plans, directs, and coordinates Bureau-wide management and administrative activities; (5) leads and guides Bureau programs in recruiting and retaining a diverse workforce; and (6) coordinates, reviews, and provides clearance of correspondence and official documents entering and leaving the Bureau.

Office of Administrative Management Services (RP1)

The Office of Administrative Management Services collaborates with the Bureau of Health Professions' leadership to plan, coordinate, and direct Bureau-wide administrative management activities. Specifically: (1) Plans and directs financial management activities including budget formulation, presentation, and execution functions and supports linking of the budget and planning processes; (2) provides human resource services regarding all aspects of personnel management, workforce planning, and the allocation and utilization of personnel resources; (3) conducts all business management aspects of the review, negotiation, award, and administration of contracts; (4) provides other support services including the acquisition, management, and maintenance of supplies, equipment, space, training, and travel, and (5) assumes special projects or takes the lead on certain issues as tasked by the Bureau Associate or Deputy Associate Administrator.

Office of Policy Coordination (RP3)

The Office of Policy Coordination serves as the focal point for coordination and integration of Bureau policy development, analyses, and evaluation. Specifically: (1) Coordinates Bureau-wide, cross-cutting initiatives; (2) links Bureau policy activities to HRSA-wide policy development, analyses, and evaluation; (3) serves as a key point of contact to coordinate public relations and media communications, as well as activities related to congressional inquiries, and other stakeholder groups in conjunction with the Agency and Department; (4) prepares policy analysis papers and other planning documents as required; (5) analyzes issues arising from legislation, budget proposals, regulatory actions and other program or policy actions; (6) coordinates, reviews, and provides clearance of correspondence and official documents entering and leaving the Bureau as needed; (7) conducts all business management aspects of the review, negotiation, award, and administration of grants and cooperative agreements; and (8) assumes special projects or takes the lead on certain issues as tasked by the Bureau Associate or Deputy Associate Administrator.

Office of Performance Measurement (RP4)

The Office of Performance Measurement serves as the Bureau focal point for performance measurement coordination, reporting, evaluation, and analysis. Specifically: (1) Leads, guides, and coordinates performance measurement, performance reporting, and program evaluation activities of the Bureau's Divisions and Offices; (2) coordinates and guides the Bureau's efforts to use performance information to improve program planning and implementation; (3) maintains effective relationships within HRSA and with other federal and non-federal agencies engaged in program evaluation; (4) promotes quality improvement in health professions education through collaboration and partnerships with national and international institutes and centers for quality improvement; and (5) works collaboratively with the National Center for Health Workforce Analysis.

Division of Public Health and Interdisciplinary Education (RPF)

The Division of Public Health and Interdisciplinary Education serves as the Bureau's lead for increasing the public health and behavioral health workforce, promoting interdisciplinary health professions issues and programs, including geriatric training, and increasing the diversity of the health professions workforce. Specifically: (1) Provides grants and technical assistance to expand and enhance training critical to the current and future public health workforce, supports academic-community partnerships, expands and improves the quality of health professions interdisciplinary and inter-professional education, expands health career opportunities for diverse and disadvantaged populations and supports and guides the career development in geriatric specialties; (2) evaluates programmatic data and promotes the dissemination and application of findings arising from supported programs; (3) collaborates within the Bureau to conduct, support, or obtain analytical studies to determine the present and future supply requirements of the healthcare workforce in the areas addressed by the Division of Public Health and Interdisciplinary Education's programs; (4) provides leadership and staff support for the Advisory Committee on Interdisciplinary, Community-Based Linkages; and (5) represents the Bureau, Agency, and federal government, as designated, on national committees, and maintains effective relationships within HRSA and with other federal and non-federal agencies, state and local governmental agencies, and other public and private organizations concerned with public health and behavioral health workforce development, and improving access to health care for the nation's underserved.

Division of Medicine and Dentistry (RPC)

The Division of Medicine and Dentistry serves as the Bureau's lead in support and evaluation of medical and dental personnel development and utilization including (a) primary care physicians, (b) dentists, (c) dental hygienists, and (d) physician assistants to provide health care in underserved areas. Specifically: (1) Administers grants to educational institutions for the development, improvement, and operation of educational programs for primary care physicians (pre-doctoral, residency) and physician assistants, including support for community-based training and funding for faculty development to teach in primary care specialties training; (2) provides technical assistance and consultation to grantee institutions and other governmental and private organizations on the operation of these educational programs which includes funding for the nation's free standing children's hospitals to support graduate medical education; (3) evaluates programmatic data and promotes the dissemination and application of findings arising from supported programs; (4) collaborates within the Bureau to conduct, support, or obtain analytical studies to determine the present and future supply and requirements of physicians, dentists, dental hygienists and physician assistants by specialty, geographic location, and for state planning efforts; (5) encourages community-based training opportunities for primary care providers, particularly in underserved areas; (6) provides leadership and staff support for the Advisory Committee on Training in Primary Care Medicine and Dentistry and for the Council on Graduate Medical Education; and (7) represents the Bureau, Agency, and federal government, as designated, on national committees maintaining effective relationships within HRSA and with other federal and non-federal agencies, state and local governments, and other public and private organizations concerned with health personnel development and improving access to health care for the nation's underserved.

Division of Nursing (RPB)

The Division of Nursing serves as the Bureau's leader for nursing education and practice, including increasing the diversity of the nursing workforce to improve access to health care in underserved areas. Specifically: (1) Provides grants and technical assistance for schools of nursing in the development and improvement of education for nursing or specialized training in primary care to enhance training opportunities and competencies critical to the current and future nursing workforce; (2) addresses nursing workforce shortages through projects that focus on expanding enrollment in baccalaureate programs, developing internship and residency programs, or providing education in new technologies, including distance learning, nurse practice projects that focus on establishing/expanding practice arrangements in non-institutional settings, providing care for underserved populations and other high-risk groups, skill-building in managed care, quality improvement and other skills needed in existing and emerging organized health care systems, or developing cultural competencies; (3) develops, supports, recommends, coordinates and evaluates health resources and health career opportunities for diverse and disadvantaged populations; (4) promotes the involvement of states and communities in developing and administering nursing programs and assists states and communities in improving access to nursing services and educational programs; (5) facilitates coordination of nursing-related issues with other governmental agencies and consults with them on national or international nursing workforce planning and development issues; (6) evaluates programmatic data and promotes the dissemination and application of findings arising from supported programs; (7) collaborates within the Bureau to conduct, support, or obtain analytical studies to determine the present and future supply and the requirements of the nursing workforce; (8) leads initiatives in the area of international nursing information exchange and nursing workforce planning and development; (9) the Director, on behalf of the Secretary, serves as the Chair of the National Advisory Council on Nurse Education and Practice, and provides staff support; and (10) represents the Bureau, Agency, and federal government, as designated, on national committees and maintains effective relationships within HRSA, with external health professional groups, with other federal and non-federal agencies, state and local governments, and other public and private organizations with a common interest in the nation's capacity to deliver nursing services.

Division of Practitioner Data Banks (RPG)

The Division of Practitioner Data Banks coordinates with the Department and other federal entities, state licensing boards, national, state, and local professional organizations, to promote quality assurance efforts and deter fraud and abuse by administering the National Practitioner Data Bank and the Healthcare Integrity and Protection Data Bank. Specifically: (1) Monitors adverse licensure information on all licensed health care practitioners and health care entities; (2) develops, proposes, and monitors efforts for (a) credential assessment, granting of privileges, monitoring and evaluating programs for physicians, dentists, other health care professionals including quality assurance, (b) professional review of specified medical events in the health care system including quality assurance, and (c) risk management and utilization reviews; (3) encourages and supports evaluation and demonstration projects and research concerning quality assurance, medical liability and malpractice; (4) ensures integrity of data collection following all disclosure procedures without fail; (5) conducts and supports research based on the National Practitioner Data Bank and Healthcare Integrity and Protection Data Bank information; (6) maintains active consultative relations with professional organizations, societies and federal agencies involved with the National Practitioner Data Bank and Healthcare Integrity and Protection Data Bank; (7) works with the Secretary's office to provide technical assistance to states undertaking malpractice reform; and (8) maintains effective relations with the Office of the General Counsel, the Office of Inspector General, and HHS concerning practitioner licensing and data bank issues.

Division of Student Loans and Scholarships (RPD)

The Division of Student Loans and Scholarships serves as the focal point for overseeing federal loan and scholarship programs supporting health professionals. Specifically: (1) Monitors and assesses educational and financial institutions with respect to capabilities and management of federal support for students and the tracking of obligatory service requirements; (2) develops and conducts training activities for staff of educational and financial institutions; (3) coordinates financial aspects of programs with educational institutions; (4) develops program data needs and reporting requirements; and (5) maintains effective relationships within HRSA and with other federal and non-federal agencies, state and local governments, and other public and private organizations concerning student assistance.

National Center for Health Workforce Analysis (RPW)

The National Center for Health Workforce Analysis provides leadership in the development and dissemination of accurate and timely data for analysis and research regarding the nation's health workforce in order to inform those making decisions for policymakers and to support goals related to the nation's health professionals' workforce. Specifically: (1) Develops the capacity to directly collect health professions workforce data to quantify and measure supply, demand, distribution, shortages and surpluses at the national level, for selected disciplines and selected states and regions; (2) collaborates and conducts studies to assess and monitor factors, such as policy actions likely to impact future supply, demand, distribution and/or use of health professionals; (3) develops and coordinates the Bureaus' data collection and modeling on health professions' workforce in conjunction with other entities involved in data collection and analysis; (4) maintains effective relationships, conducts data collection and assesses quality within HRSA staff, other federal and non-federal agencies, and organizations on the health professions workforce; (5) produces reports and disseminates data on the health professions workforce within HRSA to other federal and non-federal agencies, state and local governments, other public and private organizations, and the public concerned with health personnel development and improving access to health care for the nation's underserved; (6) provides guidance to state partnerships conducting comprehensive workforce data collection on the health care workforce which will support better coordination and implementation for workforce planning and analysis at the state level; (7) supports and conducts programs with respect to activities associated with the international migration, domestic training, and utilization of foreign medical graduates and U.S. citizens studying abroad; and (8) works collaboratively with the Office of Performance Measurement.

Section R-30, Delegations of Authority

All delegations of authority and re-delegations of authority made to HRSA officials that were in effect immediately prior to this reorganization, and that are consistent with this reorganization, shall continue in effect pending further re-delegation.

This reorganization is effective upon date of signature.

Dated: October 24, 2012.
Mary K. Wakefield,
Administrator.

[FR Doc. 2012-26565 Filed 10-29-12; 8:45 am]

BILLING CODE 4165-15-P